DEPARTMENT OF ENERGY

Federal Energy Regulatory Commission

[Docket No. RP01-481-000]

ANR Storage Company; Notice of Tariff Filing

July 11, 2001.

Take notice that on July 6, 2001, ANR Storage Company (ANR Storage), tendered for filing as part of its FERC Gas Tariff, Original Volume No. 1, the following tariff sheets, with an effective date of August 6, 2001:

Third Revised Sheet No. 1

First Revised Sheet No. 11

First Revised Sheet No. 45

Original Sheet No. 155A

Original Sheet No. 155B

Original Sheet No. 155C

ANR states that tariff sheets are being filed to expressly state in its tariff the types of conditions ANR Storage may apply to discounts without having to file the discount agreement with the Commission as a non-conforming service agreement and to implement the ability for ANR Storage to enter into negotiated rate agreements.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17813 Filed 7-16-01; 8:45 am]

BILLING CODE 6717-01-P